DEPARTMENT OF COMMERCE

International Trade Administration

[C-570-165, C-552-840]

Certain Paper Plates From the People's Republic of China and the Socialist Republic of Vietnam: Postponement of Preliminary Determinations in the Countervailing Duty Investigations

AGENCY: Enforcement and Compliance, International Trade Administration, Department of Commerce.

DATES: Applicable March 26, 2024.

FOR FURTHER INFORMATION CONTACT: Mary Kolberg (the Socialist Republic of Vietnam (Vietnam)) and Eliza DeLong (the People's Republic of China (China)), AD/CVD Operations, Offices I and V, respectively, Enforcement and Compliance, International Trade Administration, U.S. Department of Commerce, 1401 Constitution Avenue NW, Washington, DC 20230; telephone: (202) 482-1785 or (202) 482-3878, respectively.

SUPPLEMENTARY INFORMATION:

Background

On February 14, 2024, the U.S. Department of Commerce (Commerce) initiated countervailing duty (CVD) investigations of imports of certain paper plates (paper plates) from China and Vietnam.¹ Currently, the preliminary determinations are due no later than April 19, 2024.

¹ See Certain Paper Plates from the People's Republic of China and the Socialist Republic of Vietnam: Initiation of Countervailing Duty Investigations, 89 FR 13043 (February 21, 2024) (Initiation Notice).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 15, 2024, the petitioner ² submitted a timely request that Commerce postpone the preliminary CVD determinations.³ The petitioner requested postponement because Commerce needs additional time to examine the number and nature of the subsidy programs under investigation, and the normal 65-day deadline for the preliminary determinations is not sufficient time for Commerce to adequately examine the amount of subsidies.⁴

² The petitioner is the American Paper Plate Coalition.

³ See Petitioner's Letter, “Petitioner's Request to Postpone the Deadline for the Preliminary Determinations,” dated March 15, 2024 at 2.

⁴ Id.

In accordance with 19 CFR 351.205(e), the petitioner has stated the reasons for requesting a postponement of the preliminary determinations, and Commerce finds no compelling reason to deny the request. Therefore, in accordance with section 703(c)(1)(A) of the Act, Commerce is postponing the deadline for the preliminary determinations to no later than 130 days after the date on which these investigations were initiated, i.e., June 24, 2024.⁵ Pursuant to section 705(a)(1) of the Act and 19 CFR 351.210(b)(1), the deadline for the final determinations of these investigations will continue to be 75 days after the date of the preliminary determinations.

⁵ Postponing the preliminary determination to 130 days after initiation would place the deadline on Sunday, June 23, 2024. Commerce's practice dictates that where a deadline falls on a weekend or federal holiday, the appropriate deadline is the next business day, in this case Monday, June 24, 2024. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: March 20, 2024.
Ryan Majerus,
Deputy Assistant Secretary for Policy and Negotiations, performing the non-exclusive functions and duties of the Assistant Secretary for Enforcement and Compliance.

[FR Doc. 2024-06364 Filed 3-25-24; 8:45 am]

BILLING CODE 3510-DS-P